DEPARTMENT OF HEALTH AND HUMAN SERVICES

Administration for Children and Families

Privacy Act of 1974; Amended System of Records Notice

AGENCY: Office of Family Assistance, Administration for Children and Families, HHS.

ACTION: Notice of amended system of records.

SUMMARY: In accordance with the requirements of the Privacy Act of 1974 (5 U.S.C. 552a), the Office of Family Assistance is publishing notice of amendments to the system of records entitled “TANF Data System”, last published on July 26, 2002 (No. 09-90-0151).

DATES: We invite interested parties to submit comments on these amendments on or before July 16, 2004. As required by 5 U.S.C. 552(a), we have sent copies of this amendment notice to the Committee on Government Reform and Oversight of the House of Representatives, the Committee on Governmental Affairs of the Senate, and the Office of Information and Regulatory Affairs of the Office of Management and Budget.

The amendments described in this notice will be effective upon publication, unless ACF receives comments that would result in a contrary determination.

ADDRESSES: Please send comments to: Sean D. Hurley, Director, Division of Data Collection and Analysis, Office of Family Assistance, Administration for Children and Families, 370 L'Enfant Promenade SW., 5th Floor East, Washington DC 20447; phone: 202-401-9297; fax: 202-205-5887; E-mail: shurley@acf.hhs.gov.

Comments received will be available for public inspection at the address specified above between 9 a.m. to 5 p.m. Monday through Friday except Federal holidays.

FOR FURTHER INFORMATION CONTACT: Sean D Hurley, Director, Division of Data Collection and Analysis, at the above address.

SUPPLEMENTARY INFORMATION: The Temporary Assistance for Needy Families (TANF) program under title IV-A of the Social Security Act (the Act) became effective on August 22, 1996. In order to monitor the progress of States (i.e., the 50 States, District of Columbia, Puerto Rico, U.S. Virgin Islands and Guam) implementing the TANF program, Congress specified mandatory data collection and reporting requirements in section 411 of the Act. This section also requires the Department to transmit to Congress an annual report on the Department's findings as to whether States are:

• Meeting the work participation rates; and,

• Increasing the employment and earnings of needy families, increasing child support collections, and decreasing out-of-wedlock pregnancies and child poverty.

The annual report must also describe:

• The demographic and financial characteristics of families applying for, receiving, and becoming ineligible for TANF;

• The characteristics of State TANF programs; and,

• The trends in employment and earnings of needy families with minor children living at home.

In addition to the foregoing requirements, the statute also allows (but does not require) States to compete for an award of High-Performance Bonus (HPB) funds. These funds are awarded to applicant States which successfully assist TANF recipients in obtaining and retaining employment.

Until the regulations for the TANF program and the HPB system were finalized, including the data collection requirements, States were required to meet minimal reporting requirements under the Emergency TANF Data Report, which did not include any individual identifiers.

Final rules published on April 12, 1999 expanded TANF data collection and reporting requirements. These requirements, published at 45 CFR Part 265, require States to report specific individual identifiers, including the Social Security Numbers (SSNs) of TANF recipients collected pursuant to section 1137 of the Act. States are required to collect the prescribed data elements monthly and report the data quarterly to ACF. States may report these data elements on the entire universe of families that receive assistance in a reporting month or for a representative sample of recipients. Approximately 30 States currently report universe data.

Final rules regarding the award of TANF HPB funds were published on August 30, 2000, and amended on December 4, 2000 and May 10, 2001. These rules, which are found at 45 CFR Part 270, specify the data and other information which States must report in order to compete for bonus awards.

Consistent with these requirements, the Office of Family Assistance (OFA) and the Office of Planning, Research, and Evaluation, ACF, established a system of records called the TANF Data System (TDS) (67 FR 48914, July 26, 2002). In addition, since States that wish to compete on the four work measures in the HPB system in FY 2002 or later are required to provide the SSNs of all adult recipients in each fiscal quarter, such SSNs will also be included in the TDS. These SSNs are used to obtain information on the employment and earnings of TANF recipients by matching them with the National Directory of New Hires (NDNH) data set maintained by the Office of Child Support Enforcement (OCSE), ACF.

Notice is hereby given that OFA is amending the System of Records published on July 26, 2002 at 67 FR 48914 as described below.

1. In the SUMMARY, the sentence “The TANF Data System includes the data elements on individual TANF recipients that States report under sections 403 and 411 of the Act.” is amended to “The TANF Data System includes the data elements on individual TANF recipients that States report under program regulations at section 45 CFR Part 265”. The purpose of this amendment is to specifically include all data collected on individuals under the TANF program. This is consistent with the later section CATEGORIES OF INDIVIDUALS COVERED BY THE SYSTEM.

2. The contents of the ROUTINE USES section are amended to read:

“Records containing data collected pursuant to program regulations at 45 CFR Part 265 may be disclosed for statistical purposes, and only for such purposes, as described below:

1. In response to specific requests from public or private entities, supply untabulated and/or tabulated data without personal identifiers in a form that is not individually identifiable to a recipient who has provided the agency with advance adequate written assurance that the records will be used solely as statistical research or reporting records;

2. In response to specific requests from public or private entities, where the requester's proposed use of data from the TANF Data System is found compatible with the purposes for which this data was collected, supply untabulated data which may include personal identifiers for individuals whose information is included in the data. No data which may include personal identifiers will be disclosed until the requester has agreed in writing not to use such data to identify any individuals, and has provided advance adequate written assurance that the records will be used solely as statistical research or reporting records.

Note: Data produced by matching State-provided data with data from OCSE's National Directory of New Hires will only be disclosed in accordance with applicable routine use disclosures set forth in OCSE's Locate and Collection System No. 09-90-0074.

The preceding amendment will more clearly and accurately reflect the circumstances under which information maintained in the TANF Data System may be disclosed consistent with our legal obligations to protect the privacy of the individuals whose information is included in the data.

3. In the last paragraph of the RETENTION AND DISPOSAL section, the sentence, “The erasing of these SSN data file will be done within a year after the award year, which immediately follows the performance year.” is amended to, “The erasing of these SSN data files will be done within two years after the awards are actually made for a performance year (which precedes the award year).” The reason for this amendment is that the awards may not always be made in the year immediately following the performance year, and the data may be used for statistical purposes (as defined above) within the extended, two-year period (as opposed to the one-year period), or to check the accuracy of the computations for the award in response to specific requests for the same from the participating States.

We are also making conforming amendments.

Dated: June 10, 2004.
Joan E. Ohl,
Acting Director, Office of Family Assistance, ACF.

09-90-0151

SYSTEM NAME:

Temporary Assistance for Needy Families (TANF) Data System, ACF, HHS.

SECURITY CLASSIFICATION:

None.

SYSTEM LOCATION:

The TANF data are reported by the individual States for each (Federal) fiscal quarter. (The term State is used in this notice to refer to the 50 States, the District of Columbia, and the jurisdictions of Puerto Rico, the U.S. Virgin Islands, and Guam). States transmit the data electronically to the computer system of the Center for Information Technology (CIT) of the National Institutes of Health (NIH) located at Building 12A, Bethesda, MD 20892. The State data are pooled to create a national database for each quarter, which is also kept in the computer system of CIT. The whole system is maintained under the technical and management control of: (1) The Office of Information Systems, Office of Administration, Administration for Children and Families, 370 L'Enfant Promenade, SW., Washington, DC 20447; and (2) the Office of Family Assistance, Administration for Children and Families, 370 L'Enfant Promenade, SW., Washington, DC 20447.

CATEGORIES OF INDIVIDUALS COVERED BY THE SYSTEM:

The TANF Data System contains information on: (1) Members of families (as defined at 45 CFR 265.2) who received assistance under the TANF program in any month, and (2) members of families (as defined at 45 CFR 265.2) in which an individual was assisted by a Separate State Program (SSP) which is not subject to Federal work or time limit requirements but for which expenditures are or will be claimed by the State to satisfy TANF Maintenance of Effort (MOE) requirements.

CATEGORIES OF RECORDS IN THE SYSTEM:

There are three distinct groups of data in the TDS: family-level data; adult-level or minor-child-head-of-household data; and child data.

Family level data maintained in the TDS may include the following items of information on every family that received assistance during one or more months: State Federal Information Processing Standard (FIPS) code; Federal Region code; county FIPS code; report year and month; stratum code; case identification number (assigned by the State); Zip code; funding stream; disposition status; new applicant status; number of family members; type of family for work participation; receipt of subsidized housing; receipt of medical assistance; receipt of food stamp assistance; amount of food stamp assistance; receipt of subsidized child care; amount of subsidized child care; amount of child support; amount of family's cash resources; cash, or cash equivalent, amount of assistance and number of months of that assistance; TANF child care (amount, number of children covered, and number of months of assistance); transportation assistance (amount and number of months of assistance); transitional services (amount and number of months of assistance); other assistance (amount and number of months of assistance); amount of reductions in assistance; reason for assistance reductions (sanctions, recoupment of prior overpayment, and other); waiver evaluation experimental and control group status; exemption status from the federal time-limit provisions; and new child-only-family status.

Adult-level or minor child-head-of-household data maintained in the TDS may include: case identification number (same as the family's case identification number); report year and month; State FIPS code; family affiliation; non-custodial parent indicator; date of birth; SSN; race and ethnicity; gender; receipt of disability benefits; marital status; relationship to head of household; parent-with-minor-child-in-the-family status; needs of a pregnant woman; education level; citizenship; cooperation with child support; number of months countable towards Federal time-limit; number of countable months remaining under State's time-limit; exemption status of the reporting month from the State's time-limit; employment status; work participation status; unsubsidized employment hours; subsidized private and public sector employment hours; work experience hours; on-the-job training hours; job search and job readiness assistance hours; community service program hours; vocational educational training hours; hours of job skills training directly related to employment; hours of education directly related to employment for individuals with no high school diploma or certificate of high school equivalency; hours of satisfactory school attendance for individuals with no high school diploma or certificate of high school equivalency; hours of providing child care services to an individual who is participating in a community service program; hours of additional work activities permitted under a Waiver demonstration; hours of other work activities; required hours of work under a Waiver demonstration; amount of earned income; and amount of unearned income (earned income tax credit, Social Security benefit, Supplemental Security Income (SSI), worker's compensation, and other unearned income).

Child data (i.e., data pertaining to every child in a recipient TANF family) may include: Case identification number (same as the family's case identification number); State FIPS code; report year and month; family affiliation; date of birth; SSN; race and ethnicity; gender; receipt of disability benefits; relationship to head of household; parent-with-minor-child-in-the-family status; education level; citizenship; amount of unearned income (SSI and other).

AUTHORITY FOR MAINTENANCE OF THE SYSTEM:

Legal authority for the collection and maintenance of the system is contained in Title IV-A of the Social Security Act, 42 U.S.C. 601-619. TANF data collection and reporting regulations are found in 45 CFR Part 265. Legal authority for the collection of information for the High Performance Bonus award program is found in section 403 of the Social Security Act and in 45 CFR Part 270.

PURPOSE(S):

The purposes of the TANF Data System are: (1) To determine whether states are meeting certain requirements prescribed by the Act, including prescribed work and time-limit requirements; (2) to compile information used to report to Congress on the TANF program; and, (3) to compute state scores on work measures and rank states on their performance in assisting TANF recipients to obtain and retain employment in connection with the award of High Performance Bonus funds.

ROUTINE USES OF RECORDS MAINTAINED IN THE SYSTEM, INCLUDING CATEGORIES OF USERS AND THE PURPOSE OF SUCH USES:

Records containing data collected pursuant to program regulations at 45 CFR Part 265 may be disclosed for statistical purposes, and only for such purposes, as described below:

1. in response to specific requests from public or private entities, supply untabulated and/or tabulated data without personal identifiers in a form that is not individually identifiable to a recipient who has provided the agency with advance adequate written assurance that the records will be used solely as statistical research or reporting records;

2. in response to specific requests from public or private entities, where the requester's proposed use of data from the TANF Data System is found compatible with the purposes for which this data was collected, supply untabulated data which may include personal identifiers for individuals whose information is included in the data. No data which may include personal identifiers will be disclosed until the requester has agreed in writing not to use such data to identify any individuals and has provided advance adequate written assurance that the records will be used solely as statistical research or reporting records.

Note: Data produced by matching State-provided data with data from OCSE's National Directory of New Hires will only be disclosed in accordance with applicable routine use disclosures set forth in OCSE's Locate and Collection System No. 09-90-0074.

DISCLOSURE TO CONSUMER REPORTING AGENCIES:

None.

POLICIES AND PRACTICES FOR STORING, RETRIEVING, ACCESSING, RETAINING, AND DISPOSING OF RECORDS IN THE SYSTEM:

STORAGE:

States electronically transmit the TANF data for each fiscal quarter to a computer in the Center for Information Technology (CIT) of the National Institute of Health. The data sets received from the States in accordance with the requirements program regulations at 45 CFR Part 265 are pooled to create a national database for each fiscal quarter. The national database thus created for a given fiscal year is also kept in a computer disk on the mainframe of the CIT for up to 24 months after the end of such fiscal year. Afterwards, the database is copied to compact discs (CDs) and securely kept in ACF under lock and key or on personal computers by individuals whose access to the CDs has been authorized by the OFA and/or ACF's Office of Information Services, Office of Administration.

Although SSNs of adult TANF recipients collected from States which have chosen to compete for High-Performance bonuses are stored on the CIT as well, they are also provided to Office of Child Support Enforcement for matching with records of individual employment information contained in the National Directory of New Hires (NDNH) portion of OCSE's Location and Collection System No. 09-90-0074, published at 65 FR 57817, September 26, 2000. Thereafter, match results are transmitted back to OFA without SSNs in a form which is not individually identifiable, and the SSNs supplied to perform the match are destroyed by OCSE.

RETRIEVABILITY:

The national database kept in the CIT is accessed by authorized users of the data following established procedures. The authorized users are selected individuals in the Office of Administration, ACF (including its contractors who may handle processing of the data and the creation of the national database), and selected individuals in the Division of Data Collection and Analysis, OFA, ACF (who perform analyses of the data). The database is accessed and downloaded by authorized individuals to secure personal computers (PCs). Sharing of the data downloaded to individual PCs is allowed only with permission of the System Manager. Although all data elements in the database can be retrieved, the SSNs are not generally included in any retrieval, since they are not used in the routine analyses of the data.

SAFEGUARDS:

1. Physical security: The CIT of NIH, as a U.S. government facility, abides by all U.S. government policies with regard to the physical security of the data kept there. Physical security at CIT includes: An uninterruptible power supply; climate control; a central backup and recovery system; a disaster recovery program; security procedures for data access; and normal physical and system security procedures (restricted physical access to computer machine rooms and output handling areas, which is enforced by a round-the-clock security guard stationed at the main entrance to the area, valid government identification (ID) badge or photo identification and registration with the security guard to obtain a temporary entry badge for a specifically authorized purpose, such as maintenance service or repair of equipment). The outputs generated at the facility are placed in locked boxes that can be accessed only by users knowing the correct box access code. To ensure physical security of data kept on tapes or other portable media, the CIT requires that the sponsor of an account authorize the removal of them from the CIT. When such items are taken out, the person receiving the items provides the following to the production unit staff of the CIT: Name and signature; ID badge number; driver's license number and State; and organization's (which is represented by the person) name and phone number. Only after confirming these items of information by the production unit staff will the items be given to the person. Data older than 24 months is downloaded by authorized individuals to secure PCs, and then copied to CDs which are then kept under lock and key. After copying the data to CDs, the data on the PCs are deleted.

2. Authorized access: Access to the data is strictly regulated with passwords and other controls. Only individuals whose work responsibilities specifically include accessing the data system (either for processing or for analysis) are allowed to access these data. They include designated individuals (including contractors) in the Office of Information Services, Office of Administration, ACF (mostly for processing incoming data and database creation), and designated individuals in the Division of Data Collection and Analysis, OFA, ACF.

3. Procedural and technical safeguards: The individuals who are authorized to access the data have been adequately instructed on the privacy and confidentiality of the data, and they have been trained to handle the data in such a manner as to protect its privacy and confidentiality. Release of any personal identification particulars by these individuals is strictly forbidden, and release of even tabulated data is allowed only under specific authorization. Established clearance procedures must be observed before any release of the information contained in the data system.

RETENTION AND DISPOSAL:

The data transmitted by a State for a fiscal quarter to the CIT's computer are backed up to a computer tape after the initial processing of the data. The backed-up version of the data is kept only for a period of 30 days.

The data transmitted by the States for a fiscal quarter, after processing and acceptance, are pooled to create a national database for the quarter. The national database is stored in the CIT's computer for up to 24 months after the end of the fiscal year. Afterwards, the database is copied to a compact disc, and the original data in CIT's computer is scratched. The data on the compact disc is securely maintained by ACF for up to 20 years in order to facilitate research on caseload trends, changes in the characteristics of TANF recipients, or other pertinent research. The eventual disposal of the data will be by means of physical destruction of the CD's containing the data. The Office of Information Systems of the Office of Administration and OFA, ACF, are responsible for the retention and disposal of the data system.

The SSNs obtained for the HPB award program for a performance year, although initially kept in an electronic file in the CIT, are erased after identifying the States that merited awards for that performance year. The erasing of these SSN data file will be done within two years after the awards are actually made for a performance year (which precedes the award year). Aggregate data files based on information provided for the HPB award program are also erased at the same time.

SYSTEM MANAGER(S) AND ADDRESS:

1. Director, Division of Applications Development Services, Office of Information Services, Office of Administration, Administration for Children and Families, 370 L'Enfant Promenade, SW., Washington, DC 20447.

2. Director, Division of Data Collection and Analysis, Office of Family Assistance, Administration for Children and Families, 370 L'Enfant Promenade, SW., Washington, DC 20447.

NOTIFICATION PROCEDURES:

To determine if a record exists, write to either of the System Managers noted above. The Privacy Act provides that, except under certain conditions specified in the law, only the subject of the records may have access to them. All requests must be submitted in the following manner: Identify the system of records that is desired to be searched; have the request for search notarized certifying the identity of the requestor; and indicate that the requestor is aware that the knowing and willful request for or acquisition of Privacy Act record under false pretenses is a criminal offense subject to a $10,000 fine. The letter of request should also provide sufficient particulars to enable the System Manager to distinguish among records on subject individuals with the same name.

RECORD ACCESS PROCEDURES:

Write to either of the System Managers listed above to obtain access to the records. Requestors should provide a detailed description of the record contents they are seeking.

CONTESTING RECORD PROCEDURE:

Write to either of the System Managers listed above, at the address noted, identifying the record and specifying the information to be contested and corrective action sought, together with supporting justification to show how the record is inaccurate, incomplete, untimely, or irrelevant.

RECORD SOURCE CATEGORIES:

All information is obtained from the states.

SYSTEM EXEMPTED FROM CERTAIN PROVISIONS OF THE ACT:

None.

[FR Doc. 04-13575 Filed 6-15-04; 8:45 am]

BILLING CODE 4184-01-P